DEPARTMENT OF AGRICULTURE

Forest Service

Notice of Central Idaho Resource Advisory Committee Meeting

AGENCY: Forest Service, USDA.

ACTION: Notice of Meeting.

SUMMARY: Pursuant to the authorities in the Federal Advisory Committee Act (Pub. L. 92-463) and under the Secure Rural Schools and Community Self Determination Act of 2000 (Pub. L. 106-393), the Salmon-Challis National Forest's Central Idaho Resource Advisory Committee will conduct a business meeting which is open to the public.

DATES: Thursday, January 14, 2010, beginning at 10 a.m.

ADDRESSES: Salmon-Challis N.F. South Zone Office, Highway 93, Challis, Idaho.

SUPPLEMENTARY INFORMATION: Agenda topics will include review 2009 projects and begin review and approval of new project proposals for 2010. The meeting will include an open public forum.

FOR FURTHER INFORMATION CONTACT: William A. Wood, Forest Supervisor and Designated Federal Officer, at 208-756-5111.

Dated: December 8, 2009.
William A. Wood,
Forest Supervisor, Salmon-Challis National Forest.

[FR Doc. E9-31285 Filed 1-5-10; 8:45 am]

BILLING CODE 3410-11-M